DEPARTMENT OF TRANSPORTATION

Federal Highway Administration

Notice of Intent To Prepare a Draft Environmental Impact Statement for the El Camino Real Roadway Renewal Project on State Route 82, in San Mateo County, California

AGENCY: Federal Highway Administration (FHWA), U.S. Department of Transportation (DOT).

ACTION: Notice of Intent (NOI) to prepare a Draft Environmental Impact Statement (Draft EIS) for the El Camino Real Roadway Renewal Project.

SUMMARY: The FHWA on behalf of the California Department of Transportation (Caltrans), is issuing this notice to advise the public that a Draft EIS will be prepared for the El Camino Real Roadway Renewal Project (Project), a proposed highway project on State Route 82 in San Mateo County, California.

DATES: This notice will be accompanied by a 30-day public scoping comment period from Monday, November 16, 2020, to December 17, 2020. The deadline for public comments is 5:00 p.m. (PST) on December 17, 2020. Because COVID-19 social distancing advisories are still in effect, no physical public meetings will be held during the public scoping comment period. However, Caltrans will be making project information available on the internet at www.ECRalternatives.com throughout the entire public comment period. A link to the above website is accessible through the project website at www.ElCaminoRealProject.com or https://dot.ca.gov/caltrans-near-me/district-4/d4-projects/d4-san-mateo-82-el-camino-real-project. Project materials will be posted on the www.ECRalternatives.com website and will include project background, project schedule, frequently asked questions, archival information from prior public outreach presentations, the El Camino Real Task Force effort 2017-2018, newly developed narrated presentation slides about the ECR Project's purpose and need, the alternatives being considered, tree survey information, and information regarding the Howard-Ralston Eucalyptus Tree Rows, a resource on the National Register of Historic Places, and other historic resources in the project area. A poster gallery will also be available that features project alternatives and key slide content.

The virtual public information tour will also include a virtual public forum for the public to share thoughts on the project material, the project alternatives under consideration, suggest other alternatives, and read what other members of the public are saying about the project. All comments offered through the virtual public forum will be moderated to maintain respectful discourse. Comments shared through the virtual public forum will become part of the public record.

In addition, the public can submit formal scoping comments through the www.ECRalternatives.com website via an electronic comment submission form, via email at ECRproject@dot.ca.gov, or via USPS at the contact information listed below. In addition to email notifications, Caltrans has mailed notification postcards via USPS to the public, based on information collected from early pubic outreach efforts, and to city, county and state officials with jurisdiction in the project area. Postcards provide contact information for requesting information in alternative formats or alternative language translation services.

More information can also be found at the project website at www.ElCaminoRealProject.com or https://dot.ca.gov/caltrans-near-me/district-4/d4-projects/d4-san-mateo-82-el-camino-real-project.

FOR FURTHER INFORMATION CONTACT: Yolanda Rivas, Senior Environmental Planner, Caltrans District 4, P.O. Box 23660, MS-8B, Oakland, CA 94623-0660, telephone (510) 506-1461, or email Yolanda.rivas@dot.ca.gov. For FHWA, contact David Tedrick, telephone (916) 498-5024, or email david.tedrick@dot.gov.

SUPPLEMENTARY INFORMATION: Effective July 1, 2007, the FHWA assigned, and Caltrans assumed, environmental responsibilities for this project pursuant to 23 U.S.C. 327. Caltrans as the assigned National Environmental Policy Act (NEPA) agency, will prepare a Draft EIS on a proposal for 3.6-mile roadway rehabilitation project in San Mateo County, California. The project limits extend from East Santa Inez Avenue in the City of San Mateo to Millbrae Avenue in the City of Millbrae.

The project is needed to address the overall condition of the existing roadway by correcting the following deficiencies: The pavement is currently rated as poor, with moderate alligator cracking and very poor ride quality indicating roadway structural inadequacy; water ponding and frequent localized flooding occurs due to uneven roadway surfaces and inadequate or impacted drainage systems; pedestrian access is impaired due to lack of updated curb ramps and uneven sidewalks; pedestrian infrastructure is not compliant with state and federal Americans with Disabilities Act (ADA) requirements; existing sidewalks lack accessible pedestrian signals systems, countdown pedestrian systems, high-visibility striping, or current devices; and pavement markings.

The purpose of the project is to preserve and extend the life of the roadway and improve ride quality, improve drainage efficiency to reduce localized flooding, improve visibility for all users, and enhance pedestrian infrastructure by bringing it into compliance with Title II of the ADA. Currently, the range of alternatives being considered includes either taking no action on the 3.6-mile segment of El Camino Real, or proceeding with one of several potential build alternatives. The build alternatives would all involve performing roadway rehabilitation with upgrades to drainage, pedestrian, and roadway infrastructure to achieve the purpose and need of the project. The roadway rehabilitation alternatives may include the following: Rehabilitation while keeping utilities overhead; rehabilitation while relocating utilities underground; rehabilitation while reducing the number of travel lanes from 4 to 2 and including a 12-foot center-turning lane while keeping utilities overhead; and rehabilitation while reducing the number of travel lanes from 4 to 2 and including a 12-foot center-turning lane while relocating utilities underground. Varying roadway widths (ranging 44-46 feet), travel lane widths (ranging 10-11 feet), and sidewalk widths (ranging 4-6 feet) are being considered to avoid and minimize impacts to the Howard-Ralston Eucalyptus Tree Rows, where feasible. Avoidance and minimization measures will be studied and implemented depending upon the limits of state right of way, Caltrans' ability to meet state highway design and safety provisions, and/or other factors.

The only anticipated Federal approval includes a permit under the National Pollutant Discharge Elimination System (NPDES). Other Federal administrative activities include coordination with the Department of the Interior under Section 4(f) of the Department of Transportation Act (1966) and the Advisory Council on Historic Preservation under Section 106 of the National Historic Preservation Act (1966). Notices describing the proposed action and soliciting comments will be sent to appropriate Federal cooperating and participating agencies.

Since June 2019, Caltrans has been in consultation under Section 106 of the National Historic Preservation Act to evaluate potential effects to the Howard-Ralston Eucalyptus Tree Rows, a historic property listed on the National Register of Historic Places (NRHP), and to evaluate potential effects to other historic properties determined eligible for the NRHP. Notifications have been sent to appropriate State, tribal governments, local agencies, private organizations, and citizens who have previously expressed or are known to have interest in this proposal.

The project team anticipates reviewing all public comments received during the public scoping period and circulating a Draft EIS. A public hearing will be held once the Draft EIS is completed. Public notice will be given of the time and place of the meeting and hearing. The Draft EIS will be available for public and agency review and comment prior to the public hearing to ensure that the full range of issues related to this proposed action are addressed and all significant issues are identified, and comments and suggestions are invited from all interested parties. Comments or questions concerning this proposed action and the Draft EIS should be directed to Caltrans at the address provided above.

(Catalog of Federal Domestic Assistance Program Number 20.205, Highway Planning and Construction. The regulations implementing Executive Order 12372 regarding intergovernmental consultation on Federal programs and activities apply to this program.)

Issued on: November 19, 2020.
Rodney Whitfield,
Director, Financial Services, Federal Highway Administration, California Division.

[FR Doc. 2020-27032 Filed 12-8-20; 8:45 am]

BILLING CODE 4910-RY-P